DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Licensing Responsibilities and Enforcement.

Agency Form Number: None.

OMB Approval Number: 0694-0122.

Type of Request: Extension of a collection.

Burden: 70,104 hours.

Average Time Per Response: Up to 2.5 hours per response.

Number of Respondents: 145,372 respondents.

Needs and Uses: This information collection package supports the various collections, notifications, reports, and information exchanges that are needed by the Office of Export Enforcement and Customs to enforce the Export Administration Regulations and maintain the National Security of the United States.

(a) Assumption Writing. This writing is necessary to establish who will be responsible for compliance with license requirements in the Export Administration Regulations.

(b) Information sharing requirements. This information sharing requirement is necessary because the foreign principal and/or his agent has taken on the responsibility for license requirements without necessarily having all the information necessary to make a license determination or obtain a license.

(c) Power of attorney or other written authorization. It is necessary to establish the principal/agent relationship in writing, so that BIS can determine who was responsible for compliance of the EAR and the proper party can be charged when a violation of the Export Administration Regulations has occurred.

(d) Procedures for unscheduled unloading.

(e) Return or Unloading at Direction of U.S. Dept of Commerce. Where there are reasonable grounds to believe that a violation of the EAR has occurred or will occur with respect to a particular export from the U.S., BIS or any U.S. Customs officer may order any person in possession or control of such shipment to return or unload the shipment.

(f) Destination Control Statement. The DCS is a preventive enforcement measure to remind the public that the goods covered by a document that contains the DCS are controlled for export by the U.S. Government and if they plan to export or reexport it they should look at the EAR to make sure they are in compliance.

(g) Notation on export documents for exports exempt from SED requirements. The bill of lading or other loading document must be available for inspection along with the items prior to lading on the carrier.

(h) Exports by U.S. Mail. Whenever you export items subject to the EAR by mail that meets one of the exemptions for submission of an SED, you must enter the appropriate export authority on the parcel, i.e., either the number of and expiration date of a license issued by BIS, the appropriate License Exception symbol, or NLR “No License Required” designator.

(i) Issuance of License, Responsibility of the licensee. When required by the license, the licensee is responsible for obtaining written acknowledgment(s) of receipt of the conditions from the parties to whom those conditions apply.

Affected Public: Individuals, businesses or other for-profit institutions.

Respondent's Obligation: Mandatory.

OMB Desk Officer: David Rostker.

Copies of the above information collection proposal can be obtained by calling or writing Diana Hynek, DOC Paperwork Clearance Officer, Office of the Chief Information Officer (202) 482-0266, Department of Commerce, Room 6625, 14th and Constitution Avenue, NW., Washington, DC 20230.

Written comments and recommendations for the proposed information collection should be sent within 30 days of publication of this notice to David Rostker, OMB Desk Officer, Room 10202, New Executive Office Building, Washington, DC 20230.

Dated: November 15, 2002.
Madeleine Clayton,
Management Analyst, Office of the Chief Information Officer.

[FR Doc. 02-29528 Filed 11-20-02; 8:45 am]

BILLING CODE 3510-DT-P